DEPARTMENT OF COMMERCE

National Institute of Standards and Technology

[Docket No.: 040609175-5128-02]

Availability of Applications for the Laboratory Accreditation Program for Voting System Testing Under the National Voluntary Laboratory Accreditation Program

AGENCY: National Institute of Standards and Technology, Commerce.

ACTION: Notice.

SUMMARY: Under the National Voluntary Laboratory Accreditation Program (NVLAP), the National Institute of Standards and Technology (NIST) publishes this notice of availability of applications for the NVLAP accreditation program for laboratories that perform testing of voting systems and components using the Voting System Standards of 2002 as augmented from time to time by the Election Assistance Commission (EAC). NIST has established this program at the request of the EAC to fulfill requirements of the Help America Vote Act of 2002 (Pub. L. 107-252).

DATES: Application information and forms are now available. Laboratories wishing to be considered for accreditation in the first group must submit an application to NVLAP and pay required fees by August 16, 2005. The evaluation of the initial group of applicant laboratories for accreditation will commence on or about September 15, 2005. Laboratories whose applications are received after that date will be considered on an as-received basis.

ADDRESSES: Laboratories may obtain requirements documents and an application for accreditation for this program by calling 301-975-4016, by writing to: Voting System Testing Program Manager, NIST/NVLAP, 100 Bureau Drive, Mail Stop 2140, Gaithersburg, Maryland, 20899-2140, or sending an e-mail to nvlap@nist.gov.

FOR FURTHER INFORMATION CONTACT: Jeffrey Horlick, National Voluntary Laboratory Accreditation Program (NVLAP), NIST, 100 Bureau Drive, Stop 2140, Gaithersburg, Maryland, 20899-2140, telephone: 301-975-4016, e-mail: jeffrey.horlick@nist.gov.

SUPPLEMENTARY INFORMATION:

Background

The National Voluntary Laboratory Accreditation Program (NVLAP), established at the National Institute of Standards and Technology (then called the National Bureau of Standards) in 1976, is codified in the U.S. Code of Federal Regulations, title 15, part 285 (15 CFR part 285).

The National Institute of Standards and Technology (NIST) publishes this notice to announce the availability of applications for the NVLAP accreditation program for laboratories that perform testing of voting systems and components using the Voting System Standards of 2002 as augmented from time to time by the Election Assistance Commission (EAC). NIST has established this program at the request of the EAC to fulfill requirements of Section 231(b)(1) of the Help America Vote Act of 2002 (Pub. L. 107-252). This program is not intended for laboratories conducting tests for non-voting requirements of the Voting System Standards.

On June 23, 2004, in accordance with 15 CFR part 285, NIST published a Federal Register notice (69 FR 34993) announcing the intent to establish a NVLAP program for laboratories testing voting systems. A public workshop was held on August 17, 2004, for the purpose of exchange of information among NVLAP, laboratories interested in seeking accreditation for the testing of voting systems under the Help America Vote Act, and other interested parties. The results of the workshop discussions were used in the development of the NVLAP Voting Systems Laboratory Accreditation Program (Voting LAP).

Technical Requirements for the Accreditation Process

General requirements for accreditation are given in NIST Handbook 150 NVLAP Procedures and General Requirements. The specific technical and administrative requirements for this program are given in NIST Handbook 150-22 Voting System Testing. Laboratories must meet all NVLAP criteria and requirements in order to become accredited. To be considered for accreditation, the applicant laboratory must provide a completed application to NVLAP, pay all required fees, agree to conditions for accreditation, and provide a quality manual to NVLAP (or a designated NVLAP assessor) prior to the beginning of the assessment process.

Application Requirements

(1) Legal name and full address of the laboratory;

(2) Ownership of the laboratory;

(3) Authorized Representative's name and contact information;

(4) Names, titles and contact information for laboratory staff nominated to serve as Approved Signatories of test or calibration reports that reference NVLAP accreditation;

(5) Organization chart defining relationships that are relevant to performing testing and calibrations covered in the accreditation request;

(6) General description of the laboratory, including its facilities and scope of operation; and

(7) Requested scope of accreditation.

In addition, the laboratory shall provide a copy of its quality manual and related documentation, where appropriate, prior to the on-site assessment. NVLAP will review the quality system documentation and discuss any noted nonconformities with the Authorized Representative before the on-site visit. Laboratories that apply for accreditation will be required to pay NVLAP fees and undergo on-site assessment and shall meet proficiency testing requirements before initial accreditation can be granted. Information on the fee structure and a description of the on-site assessment are found in sections 3.1.3 and 3.2 respectively of NIST Handbook 150.

NVLAP accreditation is a pre-requisite for a laboratory to be submitted by the Director of the National Institute of Standards and Technology to the Election Assistance Commission for consideration pursuant to section 231(b)(1) of the Help America Vote Act. Under section 231(b)(2)(A), the EAC accredits bodies that test, certify, decertify and recertify voting systems.

Notwithstanding any other provision of law, no person is required to respond to nor shall a person be subject to a penalty for failure to comply with a collection of information subject to the requirements of the Paperwork Reduction Act unless that collection of information displays a currently valid Office of Management and Budget (OMB) Control Number. The NVLAP application is approved by the Office of Management and Budget under OMB Control No. 0693-0003.

Dated: June 9, 2005.
Hratch G. Semerjian,
Acting Director.

[FR Doc. 05-11999 Filed 6-16-05; 8:45 am]

BILLING CODE 3510-13-P